DEPARTMENT OF COMMERCE

International Trade Administration

[A-489-815]

Light-Walled Rectangular Pipe and Tube From Turkey: Final Results of Antidumping Duty Administrative Review; 2019-2020

AGENCY: Enforcement and Compliance, International Trade Administration, Department of Commerce.

SUMMARY: The Department of Commerce (Commerce) determines that there were no suspended entries of merchandise subject to the antidumping duty (AD) order on light-walled rectangular pipe and tube (LWRPT) from Turkey during the period May 1, 2019, through April 30, 2020 from any of the companies under review.

DATES: Applicable August 2, 2021.

FOR FURTHER INFORMATION CONTACT: Thomas Hanna, AD/CVD Operations, Office IV, Enforcement and Compliance, International Trade Administration, U.S. Department of Commerce, 1401 Constitution Avenue NW, Washington, DC 20230; telephone: (202) 482-0835.

SUPPLEMENTARY INFORMATION:

Background

On April 7, 2021, Commerce published the Preliminary Results of this review of the antidumping duty order on LWRPT from Turkey covering the period of review (POR) May 1, 2019, through April 30, 2020.¹ No parties commented on the Preliminary Results.

¹ See Light-Walled Rectangular Pipe and Tube from Turkey: Preliminary Results of Antidumping Duty Administrative Review; 2019-2020, 86 FR 18035 (April 7, 2021) (Preliminary Results).

Scope of the Order

The merchandise subject to this order is certain welded carbon quality light-walled steel pipe and tube, of rectangular (including square) cross section, having a wall thickness of less than 4 mm. The term carbon-quality steel includes both carbon steel and alloy steel which contains only small amounts of alloying elements. Specifically, the term carbon-quality includes products in which none of the elements listed below exceeds the quantity by weight respectively indicated: 1.80 percent of manganese, or 2.25 percent of silicon, or 1.00 percent of copper, or 0.50 percent of aluminum, or 1.25 percent of chromium, or 0.30 percent of cobalt, or 0.40 percent of lead, or 1.25 percent of nickel, or 0.30 percent of tungsten, or 0.10 percent of molybdenum, or 0.10 percent of niobium, or 0.15 percent vanadium, or 0.15 percent of zirconium. The description of carbon-quality is intended to identify carbon-quality products within the scope. The welded carbon-quality rectangular pipe and tube subject to this order is currently classified under the Harmonized Tariff Schedule of the United States (HTSUS) subheadings 7306.61.5000 and 7306.61.7060. While HTSUS subheadings are provided for convenience and CBP's customs purposes, our written description of the scope of the order is dispositive.

Analysis

Based on information obtained from U.S. Customs and Border Protection (CBP), in the Preliminary Results Commerce determined that, during the POR, there were no suspended U.S. entries of subject merchandise from the following companies: (1) Cinar Boru Profil Sanayi ve Ticaret A.S.; (2) Intermetal International Metal L.L.C.; (3) Parker Steel Company, Inc.; (4) Parker Steel International; (5) Tata Steel Nederland Tubes BV; and (6) Van Leeuwen Precisie B.V.² No parties commented on the Preliminary Results.

² See Preliminary Results.

In these final results of review, we are making no changes to the Preliminary Results. We continue to find, based on information obtained from CBP, that during the POR, there were no suspended U.S. entries of subject merchandise from each of the six companies under review. Nevertheless, as noted in the Preliminary Results, we forwarded to CBP an allegation from Nucor Tubular Products Inc., a domestic interested party, that certain merchandise from the companies under review that was entered into the United States during the POR was misreported to CBP as non-subject merchandise when it may be subject merchandise.

Assessment

Upon issuance of these final results, Commerce will determine, and CBP shall assess, antidumping duties on all appropriate entries in accordance with 19 CFR 351.212(b)(1). For any entries found to be associated with the six companies under review, we will instruct CBP to liquidate such entries at the all-others rate if there is no rate for the intermediate company(ies) involved in the transaction, consistent with Commerce's reseller policy.³

³ See Antidumping and Countervailing Duty Proceedings: Assessment of Antidumping Duties, 68 FR 23954 (May 6, 2003).

Commerce intends to issue assessment instructions to CBP no earlier than 35 days after the date of publication of this notice in the Federal Register. If a timely summons is filed at the U.S. Court of International Trade, the assessment instructions will direct CBP not to liquidate relevant entries until the time for parties to file a request for a statutory injunction has expired (i.e., within 90 days of publication).

Cash Deposit Requirements

The following cash deposit requirements will be effective for all entries of LWRPT from Turkey entered, or withdrawn from warehouse, for consumption on or after the date of publication of this notice in the Federal Register, as provided for by section 751(a)(2)(C) of the Act: (1) If a company-specific weighted-average dumping margin was previously established in a completed segment of this proceeding for any of the six companies listed above, then the cash deposit rate will continue to be equal to the company-specific weighted-average dumping margin established for the company in the most recently completed segment (except, if the rate is de minimis, i.e., less than 0.5 percent, then the cash deposit rate will be zero percent); (2) for merchandise exported by a company not covered in this review but covered in a prior completed segment of the proceeding, the cash deposit rate will continue to be the company-specific rate published for that company in the most recently completed segment of this proceeding in which the company was included; (3) if the exporter of the subject merchandise does not have its own rate but the producer has its own rate, the cash deposit rate will be the company-specific rate established in the most recently completed segment of the proceeding for the producer of the subject merchandise; and (4) the cash deposit rate for all other producers or exporters will continue to be 27.04 percent, the all-others rate established in the less-than-fair-value investigation.⁴

⁴ See Notice of Final Determination of Sales at Less Than Fair Value: Light-Walled Rectangular Pipe and Tube from Turkey, 73 FR 19814 (April 11, 2008).

These cash deposit requirements, when imposed, shall remain in effect until further notice.

Notification to Importers

This notice also serves as a final reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification to Interested Parties

These final results of administrative review are issued and published in accordance with sections 751(a)(1) and 777(i)(1) of the Act, and 19 CFR 351.213(h)(1).

Dated: July 27, 2021.
Christian Marsh,
Acting Assistant Secretary for Enforcement and Compliance.

[FR Doc. 2021-16428 Filed 7-30-21; 8:45 am]

BILLING CODE 3510-DS-P